DEPARTMENT OF ENERGY

Federal Energy Regulatory Commission

Combined Notice of Filings #1

Take notice that the Commission received the following electric corporate filings:

Docket Numbers: EC15-132-000.

Applicants: Georgia Power Company.

Description: Application under Section 203 of Georgia Power Company.

Filed Date: 5/1/15.

Accession Number: 20150501-5472.

Comments Due: 5 p.m. ET 5/22/15.

Docket Numbers: EC15-133-000.

Applicants: Duquesne Conemaugh, LLC, Duquesne Keystone, LLC, Chief Keystone Power, LLC, Chief Conemaugh Power, LLC.

Description: Joint Application for Authorization for Disposition and Consolidation of Jurisdictional Facilities and Acquisition of Existing Generation Facilities and Request for Expedited Action of Duquesne Keystone, LLC, et al.

Filed Date: 5/1/15.

Accession Number: 20150501-5474.

Comments Due: 5 p.m. ET 5/22/15.

Take notice that the Commission received the following electric rate filings:

Docket Numbers: ER10-2984-020.

Applicants: Merrill Lynch Commodities, Inc.

Description: Notice of Non-Material Change in Status of Merrill Lynch Commodities, Inc.

Filed Date: 5/1/15.

Accession Number: 20150501-5468.

Comments Due: 5 p.m. ET 5/22/15.

Docket Numbers: ER13-2477-007; ER15-1608-001; ER15-1607-001; ER15-1606-001; ER15-1605-001; ER15-1604-001; ER15-1603-001; ER15-1602-001; ER15-1600-001; ER15-1599-001; ER15-1598-001; ER15-1597-001; ER15-1596-001; ER15-1583-001; ER14-924-003; ER14-922-003; ER14-883-004; ER14-1569-003; ER13-2476-007; ER13-2475-007; ER12-192-010; ER11-4400-005; ER11-4398-004; ER11-4266-011; ER11-3867-012; ER11-3866-012; ER11-3859-012; ER11-3857-012; ER10-3247-010; ER10-2619-005; ER10-2617-005; ER10-2616-008; ER10-2613-005; ER10-2593-003; ER10-2590-003; ER10-2585-005.

Applicants: Brayton Point Energy, LLC, Casco Bay Energy Company, LLC, Dighton Power, LLC, Dynegy Commercial Asset Management, LLC, Dynegy Conesville, LLC, Dynegy Dicks Creek, LLC, Dynegy Energy Services (East), LLC, Dynegy Energy Services, LLC, Dynegy Fayette II, LLC, Dynegy Hanging Rock II, LLC, Dynegy Kendall Energy, LLC, Dynegy Killen, LLC, Dynegy Lee II, LLC, Dynegy Marketing and Trade, LLC, Dynegy Miami Fort, LLC, Dynegy Midwest Generation, LLC, Dynegy Moss Landing, LLC, Dynegy Oakland, LLC, Dynegy Power Marketing, LLC Dynegy Resources Management, LLC, Dynegy Stuart, LLC, Dynegy Washington II, LLC, Dynegy Zimmer, LLC, Electric Energy, Inc., Elwood Energy LLC, Illinois Power Generating Company, Illinois Power Marketing Company, Illinois Power Resources Generating, LLC, Kincaid Generation, L.L.C., Lake Road Generating Company, L.P., Liberty Electric Power, LLC, MASSPOWER, Milford Power Company, LLC, Ontelaunee Power Operating Company, LLC, Richland- Stryker Generation LLC, Sithe/Independence Power Partners, L.P.

Description: Notification of Change in Status of the Dynegy Inc. MBR Sellers under ER13-2477, et al.

Filed Date: 5/1/15.

Accession Number: 20150501-5350.

Comments Due: 5 p.m. ET 5/22/15.

Docket Numbers: ER15-506-002.

Applicants: DeSoto County Generating Company, LLC.

Description: Compliance filing per 35: Compliance Filing to be effective 12/1/2014.

Filed Date: 5/4/15.

Accession Number: 20150504-5161.

Comments Due: 5 p.m. ET 5/26/15.

Docket Numbers: ER15-572-001.

Applicants: New York Independent System Operator, Inc.

Description: Compliance filing per 35: NY Transco cmplnc re: cost allocation—transmission facilities & formula rates to be effective 4/3/2015.

Filed Date: 5/4/15.

Accession Number: 20150504-5051.

Comments Due: 5 p.m. ET 5/26/15.

Docket Numbers: ER15-1065-000.

Applicants: Balko Wind, LLC.

Description: Clarifications in Support of Market-Based Rate Tariff Filing and as supplemented of Balko Wind, LLC.

Filed Date: 5/4/15.

Accession Number: 20150504-5067.

Comments Due: 5 p.m. ET 5/11/15.

Docket Numbers: ER15-1066-001.

Applicants: Red Horse Wind 2, LLC.

Description: Clarifications in Support of Market-Based Rate Tariff Filing and as supplemented of Red Horse Wind 2, LLC.

Filed Date: 5/4/15.

Accession Number: 20150504-5069.

Comments Due: 5 p.m. ET 5/11/15.

Docket Numbers: ER15-1429-001.

Applicants: Emera Maine.

Description: Compliance filing per 35: Amendment to Application, Errata to be effective 7/1/2015.

Filed Date: 5/1/15.

Accession Number: 20150501-5338.

Comments Due: 5 p.m. ET 5/22/15.

Docket Numbers: ER15-1475-001.

Applicants: North Star Solar, LLC.

Description: Tariff Amendment per 35.17(b): Amendment to Initial Market-Based Rate Application to be effective4/9/2015.

Filed Date: 5/1/15.

Accession Number: 20150501-5433.

Comments Due: 5 p.m. ET 5/22/15.

Docket Numbers: ER15-1653-000.

Applicants: Southwest Power Pool, Inc.

Description: Section 205(d) rate filing per 35.13(a)(2)(iii): 2829R1 Midwest Energy & Westar Energy Meter Agent Agreement to be effective 4/1/2015.

Filed Date: 5/1/15.

Accession Number: 20150501-5430.

Comments Due: 5 p.m. ET 5/22/15.

Docket Numbers: ER15-1654-000.

Applicants: Eagle Point Power Generation LLC.

Description: Initial rate filing per 35.12 Tenant-In-Common Agreement to be effective 4/2/2012.

Filed Date: 5/1/15.

Accession Number: 20150501-5434.

Comments Due: 5 p.m. ET 5/22/15.

Docket Numbers: ER15-1655-000.

Applicants: Sierra Pacific Power Company.

Description: Initial rate filing per 35.12 Service Agreement No. 07-00023 SPPC-Shell-Barrick-Turquoise to be effective 1/1/2015.

Filed Date: 5/4/15.

Accession Number: 20150504-5001.

Comments Due: 5 p.m. ET 5/26/15.

Docket Numbers: ER15-1656-000.

Applicants: Midcontinent Independent System Operator, Inc.

Description: Compliance Filing for Order No. 1000, Regarding Interregional Coordination and Cost Allocation of Transmission Projects with NorthWestern Corporation and the Mid-Continent Area Power Pool of Midcontinent Independent System Operator, Inc.

Filed Date: 5/1/15.

Accession Number: 20150501-5476.

Comments Due: 5 p.m. ET 5/22/15.

Docket Numbers: ER15-1657-000.

Applicants: SEPG Energy Marketing Services, LLC.

Description: Initial rate filing per 35.12 Market-Based Rate Application to be effective 7/6/2015.

Filed Date: 5/4/15.

Accession Number: 20150504-5092.

Comments Due: 5 p.m. ET 5/26/15.

Docket Numbers: ER15-1658-000.

Applicants: PJM Interconnection, L.L.C.

Description: Section 205(d) rate filing per 35.13(a)(2)(iii): Second Revised Service Agreement No. 3665; Queue No. AA1-084 to be effective 4/2/2015.

Filed Date: 5/4/15.

Accession Number: 20150504-5102.

Comments Due: 5 p.m. ET 5/26/15.

Docket Numbers: ER15-1659-000.

Applicants: Quantum Choctaw Power, LLC.

Description: Tariff Withdrawal per 35.15: Quantum Choctaw Power Notice of Cancellation of Market-Based Rate Tariff to be effective 5/5/2015.

Filed Date: 5/4/15.

Accession Number: 20150504-5114.

Comments Due: 5 p.m. ET 5/26/15.

Docket Numbers: ER15-1660-000.

Applicants: ISO New England Inc.

Description: ISO New England Inc. Resource Termination—Brookfield White Pine Hydro LLC.

Filed Date: 5/4/15.

Accession Number: 20150504-5146.

Comments Due: 5 p.m. ET 5/26/15.

Docket Numbers: ER15-1661-000.

Applicants: Midcontinent Independent System Operator, Inc.

Description: Notice of Termination of the Wholesale Distribution Service Agreement No. 1949 of Midcontinent Independent System Operator, Inc.

Filed Date: 5/4/15.

Accession Number: 20150504-5149.

Comments Due: 5 p.m. ET 5/26/15.

Docket Numbers: ER15-1662-000.

Applicants: Rocky Road Power, LLC.

Description: Section 205(d) rate filing per 35.13(a)(2)(iii): Market-Based Tariff Revisions to be effective 5/5/2015.

Filed Date: 5/4/15.

Accession Number: 20150504-5159.

Comments Due: 5 p.m. ET 5/26/15.

Docket Numbers: ER15-1663-000.

Applicants: Tilton Energy, LLC.

Description: Section 205(d) rate filing per 35.13(a)(2)(iii): Market-Based Rate Tariff to be effective 5/5/2015.

Filed Date: 5/4/15.

Accession Number: 20150504-5160.

Comments Due: 5 p.m. ET 5/26/15.

Docket Numbers: ER15-1664-000.

Applicants: AEP Texas North Company.

Description: Section 205(d) rate filing per 35.13(a)(2)(iii): TNC-OCI Alamo 7 Interconnection Agreement to be effective 4/9/2015.

Filed Date: 5/4/15.

Accession Number: 20150504-5187.

Comments Due: 5 p.m. ET 5/26/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 4, 2015.
Kimberly D. Bose,
Secretary.

[FR Doc. 2015-11280 Filed 5-8-15; 8:45 am]

BILLING CODE 6717-01-P